DEPARTMENT OF EDUCATION

[Docket No.: ED-2013-ICCD-0125]

Agency Information Collection Activities; Submission to the Office of Management and Budget for Review and Approval; Comment Request; Student Aid Internet Gateway (SAIG) Enrollment Document

AGENCY: Federal Student Aid (FSA), Department of Education (ED).

ACTION: Notice.

SUMMARY: In accordance with the Paperwork Reduction Act of 1995 (44 U.S.C. chapter 3501 et seq.), ED is proposing a revision of an existing information collection.

DATES: Interested persons are invited to submit comments on or before February 3, 2014.

ADDRESSES: Comments submitted in response to this notice should be submitted electronically through the Federal eRulemaking Portal at http://www.regulations.gov by selecting Docket ID number ED-2013-ICCD-0125 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E103, Washington, DC 20202-4537.

FOR FURTHER INFORMATION CONTACT: For questions related to collection activities or burden, please call Kate Mullan, 202-401-0563 or electronically mail ICDocketMgr@ed.gov. Please do not send comments here. We will ONLY accept comments in this mailbox when the regulations.gov site is not available to the public for any reason.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Aid Internet Gateway (SAIG) Enrollment Document.

OMB Control Number: 1845-0002.

Type of Review: Revision of an existing collection of information.

Respondents/Affected Public: State, Local, or Tribal Governments, Private Sector.

Total Estimated Number of Annual Responses: 33,140.

Total Estimated Number of Annual Burden Hours: 10,128.

Abstract: Enrollment in the Federal Student Aid (FSA) Student Aid Internet Gateway (SAIG) allows eligible entities to securely exchange Title IV, Higher Education Act (HEA) assistance programs data electronically with the Department of Education processors. Organizations establish Destination Point Administrators (DPAs) to transmit, receive, view and update student financial aid records using telecommunication software. Eligible respondents include, but are not limited to, the following institutions of higher education that participate in Title IV, HEA assistance programs, third-party servicers of eligible institutions, Guaranty Agencies, Federal Family Education Loan Program (FFELP) lenders, Federal Loan Servicers, and local educational agencies (LEAs). The Enrollment Form for Post-Secondary Schools and Servicers represents the full complement of questions that must be presented for an organization enrolling in SAIG. The Enrollment Form for State Grant Agencies and the Enrollment Form for tracking Free Application for Federal Student Aid (FAFSA) Completion for Local Educational Agencies (LEAs) are a subset of selected questions (from the full complement of questions) to streamline the form for ease of use. The SAIG Application for State Grant Agencies Form was revised to create a two-part form. The first part is the SAIG Enrollment application and the second part is the new Participation Agreement which establishes the conditions under which the Department will permit the disclosure of certain data received or generated by the Department concerning FSA applicants. The Institutions, Third-Party Servicers, Guaranty Agencies, Federal Loan Servicers, Lenders Enrollment Form was revised to allow Lenders and their Servicers to enroll for COD Online access in order to receive completed electronic IBR/Pay As You Earn/ICR Repayment Request. Additionally, all forms were revised to accommodate annual rollover changes (i.e. new award years).

Dated: December 30, 2013.
Kate Mullan,
Acting Director, Information Collection Clearance Division, Privacy, Information and Records Management Services, Office of Management.

[FR Doc. 2013-31479 Filed 1-2-14; 8:45 am]

BILLING CODE 4000-01-P